DEPARTMENT OF TRANSPORTATION

Federal Aviation Administration

Government/Industry Aeronautical Charting Forum Meeting

AGENCY: Federal Aviation Administration (FAA), DOT.

ACTION: Notice of public meeting.

SUMMARY: This notice announces the bi-annual meeting of the Federal Aviation Administration (FAA) Aeronautical Charting Forum (ACF) to discuss informational content and design of aeronautical charts and related products, as well as instrument flight procedures development policy and design criteria.

DATES: The ACF is separated into two distinct groups. The Instrument Procedures Group (IPG) will meet October 26, 2010 from 8:30 a.m. to 5 p.m. The Charting Group will meet October 27 and 28, 2010 from 8:30 a.m. to 5 p.m.

ADDRESSES: The meeting will be hosted by the MITRE Corporation, 7515 Colshire Drive, Building 2, Room 1N100, McLean, VA 22102.

FOR FURTHER INFORMATION CONTACT: For information relating to the Instrument Procedures Group, contact Thomas E. Schneider, FAA, Flight Procedures Standards Branch, AFS-420, 6500 South MacArthur Blvd., P.O. Box 25082, Oklahoma City, OK, 73125; telephone: (405) 954-5852; fax: (405) 954-2528.

For information relating to the Charting Group, contact John A. Moore, FAA, National Aeronautical Navigation Services (AeroNav Services) Group, Regulatory Support and Coordination Team, AJW-372. 1305 East-West Highway, SSMC4-Station 5544, Silver Spring, MD, 20910; telephone: (301) 427-5154, fax: (301) 427-5412.

SUPPLEMENTARY INFORMATION: Pursuant to § 10(a)(2) of the Federal Advisory Committee Act (Pub. L. 92-463; 5 U.S.C. App. II), notice is hereby given of a meeting of the FAA Aeronautical Charting Forum to be held from October 26 through October 28, 2010, from 8:30 a.m. to 5 p.m. at the MITRE Corporation, 7515 Colshire Drive, Building 2, Room 1NIOO, McLean, VA 22102.

The Instrument Procedures Group agenda will include briefings and discussions on recommendations regarding pilot procedures for instrument flight, as well as criteria, design, and developmental policy for instrument approach and departure procedures.

The Charting Group agenda will include briefings and discussions on recommendations regarding aeronautical charting specifications, flight information products, as well as new aeronautical charting and air traffic control initiatives. Attendance is open to the interested public, but will be limited to the space available.

Please note there are special security requirements for access to the MITRE Corporation. A picture I.D. is required of all US citizens. All foreign national participants are required to have a passport. Additionally, not later than October 12, 2010, foreign national attendees must provide their name, country of citizenship, company/organization, and country of the company/organization. Send the information to: Al Herndon, MITRE Corporation, Mail Stop N-390, 7515 Colshire Drive, McLean, VA 22102, or via e-mail (preferred) to: aherndon@mitre.org.

Foreign nationals who do not provide the required information will not be allowed entrance—NO EXCEPTIONS.

The public must make arrangements by October 8, 2010, to present oral statements at the meeting. The public may present written statements and/or new agenda items to the committee by providing a copy to the person listed in the FOR FURTHER INFORMATION section not later than October 8, 2010. Public statements will only be considered if time permits.

Issued in Washington, DC, on August 24, 2010.
John A. Moore,
Co-Chair, Aeronautical Charting Forum.

[FR Doc. 2010-21925 Filed 9-2-10; 8:45 am]

BILLING CODE 4910-13-M